NATIONAL AERONAUTICS AND SPACE ADMINISTRATION

[Notice (05-118)]

Notice of Prospective Patent License

AGENCY: National Aeronautics and Space Administration.

ACTION: Notice of Prospective Patent License.

SUMMARY: NASA hereby gives notice that Phoenix Systems International, Inc. of Pine Brooke, NJ, has applied for an exclusive foreign patent license to practice the invention described and claimed in NASA Case No. KSC-12664-3 PCT entitled “Emission Control System,” which is assigned to the United States of America as represented by the Administrator of the National Aeronautics and Space Administration. Written objections to the prospective grant of an exclusive license to Phoenix Systems International, Inc. should be sent to Assistant Chief Counsel/Patent Counsel, NASA, Mail Code: CC-A, Office of the Chief Counsel, John F. Kennedy Space Center, Kennedy Space Center, FL 32899.

DATES: Responses to this notice must be received by September 19, 2005.

FOR FURTHER INFORMATION CONTACT: Randall M. Heald, Patent Counsel/Assistant Chief Counsel, NASA, Office of the Chief Counsel, John F. Kennedy Space Center, Mail Code: CC-A, Kennedy Space Center, FL 32899, telephone (321) 867-7214.

Dated: July 14, 2005.
Keith T. Sefton,
Deputy General Counsel, Administration and Management.

[FR Doc. 05-14304 Filed 7-20-05; 8:45 am]

BILLING CODE 7510-13-M